DEPARTMENT OF JUSTICE

Notice of Lodging Proposed Consent Decree

In accordance with Departmental Policy, 28 CFR 50.7, notice is hereby given that a proposed Consent Decree in United States, et al. v. Chesapeake Appalachia, LLC, Civil Action No. 5:13-cv-00170-FPS, was lodged with the United States District Court for the Northern District of West Virginia on December 19, 2013.

This proposed Consent Decree concerns a complaint filed by the United States and the State of West Virginia against Chesapeake Appalachia, LLC. The United States asserts claims pursuant to Section 301(a) of the Clean Water Act, 33 U.S.C. 1311(a), to obtain injunctive relief from and impose civil penalties against the Defendant for violating the Clean Water Act by discharging pollutants without a permit into waters of the United States. The proposed Consent Decree resolves these allegations, as well as the claims asserted by the State of West Virginia, by requiring the Defendant to restore the impacted areas and/or perform mitigation and to pay a civil penalty.

The Department of Justice will accept written comments relating to this proposed Consent Decree for thirty (30) days from the date of publication of this Notice. Please address comments to Kenneth C. Amaditz, Environmental Defense Section, United States Department of Justice, P.O. Box 7611, Washington, DC, 20044, and refer to United States, et al. v. Chesapeake Appalachia, LLC, DJ # 90-5-1-1-19241.

The proposed Consent Decree may be examined at the Clerk's Office, United States District Court for the Northern District of West Virginia, 1125 Chapline Street, Wheeling, WV 26003. In addition, the proposed Consent Decree may be examined electronically at http://www.justice.gov/enrd/Consent_Decrees.html.

Cherie L. Rogers,
Assistant Section Chief, Environmental Defense Section, Environment and Natural Resources Division.

[FR Doc. 2013-30772 Filed 12-24-13; 8:45 am]

BILLING CODE 4410-15-P